DEPARTMENT OF TRANSPORTATION

Federal Aviation Administration

[Summary Notice No. FAA-2019-60]

Petition for Exemption; Summary of Petition Received; Costruzioni Aeronautiche Tecnam S.p.A.

AGENCY: Federal Aviation Administration (FAA), Department of Transportation (DOT).

ACTION: Notice.

SUMMARY: This notice contains a summary of a petition seeking relief from a specified requirement of the Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before October 15, 2019.

ADDRESSES: Send comments identified by docket number FAA-2019-0694 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Paul Pellicano, AIR-691, Small Airplane Standards Branch, Policy & Innovation Division, Aircraft Certification Service, Federal Aviation Administration, 901 Locust, Room 301, Kansas City, MO 64106; telephone (404) 474-5558; facsimile (816) 329-4090.

This notice is published pursuant to 14 CFR 11.85.

Issued in Washington, DC, on September 17, 2019.
Brandon Roberts,
Acting Executive Director, Office of Rulemaking.

Petition for Exemption

Docket No.: FAA-2019-0694.

Petitioner: Costruzioni Aeronautiche Tecnam S.p.A.

Section(s) of 14 CFR Affected: § 23.1419(b).

Description of Relief Sought: The proposed exemption, if granted, would allow certification of the petitioner's Model P2012 Traveler airplanes for flight into known icing conditions without having to meet the ice protection system testing requirements. If granted, this relief from § 23.1419(b) would be allowed for a maximum of 16 airplanes and would be time-limited for a period of eight months until the airplanes are retrofitted with lift detector devices.

[FR Doc. 2019-20548 Filed 9-23-19; 8:45 am]

BILLING CODE 4910-13-P